DEPARTMENT OF EDUCATION

List of Correspondence From January 1, 2014, Through March 31, 2014

AGENCY: Office of Special Education and Rehabilitative Services; Department of Education.

ACTION: Notice.

SUMMARY: The Secretary is publishing the following list of correspondence from the U.S. Department of Education (Department) to individuals during the previous quarter. The correspondence describes the Department's interpretations of the Individuals with Disabilities Education Act (IDEA) or the regulations that implement the IDEA. This list and the letters or other documents described in this list, with personally identifiable information redacted, as appropriate, can be found at: http://www2.ed.gov/policy/speced/guid/idea/index.html.

FOR FURTHER INFORMATION CONTACT: Laura Duos or Mary Louise Dirrigl. Telephone: (202) 245-7605.

If you use a telecommunications device for the deaf (TDD) or a text telephone (TTY), you can call the Federal Relay Service (FRS), toll free, at 1-800-877-8339.

Individuals with disabilities can obtain a copy of this list and the letters or other documents described in this list in an accessible format (e.g., braille, large print, audiotape, or compact disc) by contacting Laura Duos or Mary Louise Dirrigl at (202) 245-7605.

SUPPLEMENTARY INFORMATION: The following list identifies correspondence from the Department issued from January 1, 2014, through March 31, 2014. Under section 607(f) of the IDEA, the Secretary is required to publish this list quarterly in the Federal Register. The list includes those letters that contain interpretations of the requirements of the IDEA and its implementing regulations, as well as letters and other documents that the Department believes will assist the public in understanding the requirements of the law. The list identifies the date and topic of each letter and provides summary information, as appropriate. To protect the privacy interests of the individual or individuals involved, personally identifiable information has been redacted, as appropriate.

Part B—Assistance for Education of All Children With Disabilities

Section 613—Local Educational Agency Eligibility

Topic Addressed: Maintenance of Effort

○ Dear Colleague Letter dated March 13, 2014, regarding a provision in the Consolidated Appropriations Act, 2014, related to the requirement in Part B of the IDEA that local educational agencies maintain the level of local, or State and local, expenditures for the education of children with disabilities.

Section 614—Evaluations, Eligibility Determinations, Individualized Education Programs, and Educational Placements

Topic Addressed: Individualized Education Programs

○ Letter dated February 7, 2014, to Texas Education Agency, Federal and State Education Policy Director Gene Lenz, regarding whether public agencies are required to report to parents of children who take alternate assessments aligned with alternate academic achievement standards on their child's progress toward meeting the benchmarks or short-term objectives in their child's individualized education program (IEP).

○ Letter dated March 21, 2014, to Maine Department of Education, Director of Special Services Janice Breton, regarding whether public agencies may use electronic mail to provide parents with their child's IEPs and related documentation, such as progress reports.

Section 615—Procedural Safeguards

Topics Addressed: Independent Educational Evaluations Resolution Meetings

○ Letter dated February 10, 2014, to Maryland Attorney Diana M. Savit, regarding classroom observations by parents and third-party independent evaluators, and whether parents or their representatives may record resolution meetings.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: May 29, 2015.
Sue Swenson,
Acting Assistant Secretary for Special Education and Rehabilitative Services.

[FR Doc. 2015-13658 Filed 6-3-15; 8:45 am]

BILLING CODE 4000-01-P